DEPARTMENT OF STATE

[Public Notice: 11427]

Determination and Certification of Countries Not Cooperating Fully With Antiterrorism Efforts

Pursuant to section 40A of the Arms Export Control Act (22 U.S.C. 2781), and Executive Order 13637, as amended, I hereby determine and certify to the Congress that the following countries are not cooperating fully with United States antiterrorism efforts: Iran, Democratic People's Republic of Korea (DPRK, or North Korea), Syria, Venezuela, and Cuba.

This determination and certification shall be transmitted to the Congress and published in the Federal Register.

Dated: May 14, 2021.
Antony J. Blinken,
Secretary of State.

[FR Doc. 2021-10948 Filed 5-24-21; 8:45 am]

BILLING CODE 4710-AD-P